DEPARTMENT OF COMMERCE

[I.D. 083101B]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Northeast Region Gear Identification Requirements

Form Number(s): None.

OMB Approval Number: 0648-0351.

Type of Request: Regular submission.

Burden Hours: 32,664.

Number of Respondents: 3,685.

Average Hours Per Response: 1 minute per piece of gear.

Needs and Uses: Regulations at 50 CFR 648.81 (f), 648.84, 648.123 (b)(3), 648.144 (b), and 697.21 require that Federal fishing permit holders using specified fishing gear mark that gear with specified information (the official vessel numbers, Federal permit number, tag number, or other method identified in the regulation). The regulations also specify how the gear is to be marked (e.g. location and visibility). Marking of gear aids law enforcement and also helps identify gear involved in damage, loss, or civil proceedings.

Frequency: Third party disclosure.

Respondent's Obligation: Mandatory.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: August 30, 2001.
Madeleine Clayton,
Departmental Paperwork Clearance Officer, Office of the Chief Information Officer.

[FR Doc. 01-22550 Filed 9-6-01; 8:45 am]

BILLING CODE 3510-22-S